DEPARTMENT OF ENERGY

Federal Energy Regulatory Commission

Combined Notice of Filings

Take notice that the Commission has received the following Natural Gas Pipeline Rate and Refund Report filings:

Filings Instituting Proceedings

Docket Numbers: CP13-127-000.

Applicants: Equitrans, L.P.

Description: Equitrans, L.P.'s Abbreviated Application for Order Authorizing Abandonment of Service.

Filed Date: 4/9/13.

Accession Number: 20130409-5079.

Comments Due: 5 p.m. ET 4/29/13.

Docket Numbers: CP13-165-000.

Applicants: Equitrans, L.P.

Description: Equitrans, L.P. Abbreviated Application for Order Authorizing Abandonment of Service of Equitrans, L.P.

Filed Date: 4/12/13.

Accession Number: 20130412-5172.

Comments Due: 5 p.m. ET 4/29/13.

Docket Numbers: CP13-138-000.

Applicants: Equitrans, L.P.

Description: Abbreviated Application for Certificate of Public Convenience and Necessity to Lease Pipeline Facilities and for Related Authorizations.

Filed Date: 4/10/13.

Accession Number: 20130410-5117.

Comments Due: 5 p.m. ET 5/10/13.

Docket Numbers: CP13-139-000.

Applicants: Peoples Natural Gas Company LLC and Rager Mountain Storage Company LLC.

Description: Abbreviated Joint Application of Peoples Natural Gas Company LLC and Rager Mountain Storage Company LLC to abandon pipeline facility by transfer and amending certificated of public convenience and necessity.

Filed Date: 4/10/13.

Accession Number: 20130410-5123.

Comments Due: 5 p.m. ET 5/10/13.

Docket Numbers: RP13-670-000.

Applicants: Trunkline LNG Company LLC.

Description: Trunkline LNG Company LLC submits a compliance filing.

Filed Date: 3/1/13.

Accession Number: 20130304-0202.

Comments Due: 5 p.m. ET 4/26/13.

Docket Numbers: RP13-799-000.

Applicants: Iroquois Gas Transmission System, L.P.

Description: 04/17/12 Negotiated Rates—United Energy Trading, LLC (HUB) 5095-89 to be effective 5/1/2013.

Filed Date: 4/17/13.

Accession Number: 20130417-5035.

Comments Due: 5 p.m. ET 4/29/13.

Docket Numbers: RP13-802-000.

Applicants: El Paso Natural Gas Company, L.L.C.

Description: Non-Conforming TSAs and Minor Housekeeping to be effective 5/20/2013.

Filed Date: 4/19/13.

Accession Number: 20130419-5167.

Comments Due: 5 p.m. ET 5/1/13.

Docket Numbers: RP13-803-000.

Applicants: Northern Natural Gas Company.

Description: 20130419 Negotiated Rate to be effective 4/20/2013.

Filed Date: 4/19/13.

Accession Number: 20130419-5188.

Comments Due: 5 p.m. ET 5/1/13.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP13-665-001.

Applicants: Columbia Gulf Transmission, LLC.

Description: TRA Supplemental Compliance Filing.

Filed Date: 4/17/13.

Accession Number: 20130417-5193.

Comments Due: 5 p.m. ET 4/29/13.

Any person desiring to protest in any the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: April 22, 2013.
Nathaniel J. Davis, Sr.,
Deputy Secretary.

[FR Doc. 2013-09968 Filed 4-26-13; 8:45 am]

BILLING CODE 6717-01-P